GENERAL SERVICES ADMINISTRATION

[OMB Control No. 3090-0293; Docket No. 2021-0001; Sequence No. 1]

Submission for OMB Review; Reporting and Use of Information Concerning Integrity and Performance of Recipients of Grants and Cooperative Agreements

AGENCY: Office of Technology Strategy/Office of Government-wide Policy, General Services Administration (GSA).

ACTION: Notice.

SUMMARY: Under the provisions of the Paperwork Reduction Act, the Regulatory Secretariat Division (MVCB) will be submitting to the Office of Management and Budget (OMB) a request to review and approve a revision and renewal of the currently approved information collection requirement concerning the reporting and use of information concerning integrity and performance of recipients of grants and cooperative agreements.

DATES: Submit comments on or before May 10, 2021.

ADDRESSES: Written comments and recommendations for this information collection should be sent within 30 days of publication of this notice to www.reginfo.gov/public/do/PRAMain. Find this particular information collection by selecting “Currently under Review—Open for Public Comments”; or by using the search function.

FOR FURTHER INFORMATION CONTACT: Nancy Goode, Integrated Award Environment, GSA, 703-605-2175, or via email at nancy.goode@gsa.gov.

SUPPLEMENTARY INFORMATION:

A. Purpose

This information collection requirement, OMB Control No. 3090-0293, currently titled “Reporting and Use of Information Concerning Integrity and Performance of Recipients of Grants and Cooperative Agreements” is necessary in order to comply with section 872 of the Duncan Hunter National Defense Authorization Act of 2009, Public Law 110-417, as amended by Public Law 111-212, hereafter referred to as “the Act.” The Duncan Hunter National Defense Authorization Act of 2009 (Pub. L. 110-417) was enacted on October 14, 2008. Section 872 of this Act required the development and maintenance of an information system that contains specific information on the integrity and performance of covered Federal agency contractors and grantees.

The Federal Awardee Performance and Integrity Information System (FAPIIS) was developed to address these requirements. FAPIIS provides users access to integrity and performance information from the FAPIIS reporting module in the Contractor Performance Assessment Reporting System (CPARS), proceedings information from the Entity Management section of the System for Award Management (SAM) database, and suspension/debarment information from the Performance Information section of SAM.

As stated in 2 CFR 200, Uniform Administrative Requirements, Cost Principles, and Audit Requirements for Federal Awards, the Federal awarding agency is required to review information available through any OMB-designated repositories of government-wide eligibility qualification or financial integrity information, as appropriate.

The Federal awarding agency is required to review the non-public segment of the OMB-designated integrity and performance system accessible through SAM (currently the FAPIIS), prior to making a Federal award where the Federal share is expected to exceed the simplified acquisition threshold (currently $250,000), defined in 41 U.S.C. 134, over the period of performance.

For non-federal entities (NFEs), if the total value of the NFEs currently active grants, cooperative agreements, and procurement contracts from all Federal awarding agencies exceeds $10,000,000 for any period of time during the period of performance of the Federal award, then the NFE must disclose semiannually, and maintain the currency of information reported to the SAM that is made available in the designated integrity and performance system (currently the FAPIIS) about civil, criminal, or administrative proceedings, as described in the award terms and conditions, for the most recent five year period.

B. Annual Reporting Burden

Proceedings Screening Question #1

Respondents: 13,683.

Responses per respondent: 1.

Total annual responses: 13,683.

Hours per response: .1.

Total response burden hours: 1,368.

Proceedings Screening Question #2

Respondents: 1,663.

Responsed per respondent: 1.

Total annual responses: 1,663.

Hours per response: .1.

Total response burden hours: 166.

Proceedings Details

Respondents: 24.

Responses per respondent: 2.

Total annual responses: 48.

Hours per response: .5.

Total response burden hours: 24.

C. Public Comments

A notice was published in the Federal Register at 86 FR 4076 on January 15, 2021. No comments were received.

Obtaining Copies: Requesters may obtain a copy of the information collection documents from the GSA Regulatory Secretariat Division by calling 202-501-4755 or emailing GSARegSec@gsa.gov. Please cite OMB Control No. Please cite OMB Control No. 3090-0293, Reporting and Use of Information Concerning Integrity and Performance of Recipients of Grants and Cooperative Agreements, in all correspondence.

Beth Anne Killoran,
Deputy Chief Information Officer.

[FR Doc. 2021-07311 Filed 4-8-21; 8:45 am]

BILLING CODE 6820-WY-P